Title 3—

The President

Proclamation 10365 of April 8, 2022

Black Maternal Health Week, 2022

By the President of the United States of America

A Proclamation

Pregnancy and childbirth should be a dignified, safe, and joyful experience for all. For far too many mothers, however, complications related to pregnancy, childbirth, and postpartum can lead to devastating health outcomes—including hundreds of deaths each year. This maternal health crisis is particularly devastating for Black women, who are more than three times as likely to die from pregnancy-related complications as white women, regardless of their income or education. During Black Maternal Health Week, we renew our commitment to addressing the crisis of Black maternal mortality and morbidity across the country.

The Biden-Harris Administration remains fully committed to ameliorating these unacceptable disparities and building a health care system that is equitable and safe for Black families. The inequities that Black mothers face are not isolated incidents but, rather, the byproduct of systemic racism in our society that has festered for far too long. To root it out, and improve health outcomes, we must address a broad range of areas where unequal access persists along racial lines—including access to health care, adequate nutrition and housing, toxin-free environments, high-paying job sectors that provide paid leave, and workplaces free from harassment and discrimination.

That is why the American Rescue Plan gives States the opportunity to provide 12 months of extended postpartum coverage to pregnant people enrolled in Medicaid and the Children's Health Insurance Program. It is also why I signed the Protecting Moms Who Served Act—part of the Black Maternal Health “Momnibus” Act that Vice President Harris introduced in the Senate—to address the maternal challenges that women veterans face. It is why Vice President Harris hosted the first-ever White House Maternal Day of Action Summit and announced a nationwide call to action to reduce maternal mortality and morbidity.

To improve perinatal health outcomes and maternal health equity, the Centers for Medicare & Medicaid Services intends to propose the first-ever hospital quality designation specifically focused on maternity care. In addition, the Substance Abuse and Mental Health Services Administration recently accepted applications for the Services Grant Program for Residential Treatment for Pregnant and Postpartum Women—a program that provides pregnant and postpartum women and their children with comprehensive substance use treatment and recovery support services across residential and outpatient settings. This year, the program will also extend services to fathers, partners, and other family members.

In the year ahead, we must build on this work by further expanding access to maternal care, lowering health care costs, and making new investments to drive down mortality and improve maternal health. We are going to expand and diversify the maternal health workforce, improve maternal mental health treatment, bolster community-based programs, train providers, enhance research, and ensure that maternal care is better coordinated. This is more than just the right thing to do—it is also a strategic imperative that makes all of us healthier and all of us stronger. When women—regardless of race—do not receive the health care they need and deserve, it threatens the strength and stability of our families, our communities, and our entire Nation.

It is on all of us to ensure that no person's race ever determines their health outcomes and that every person preparing to give birth is treated with dignity, safety, and respect in our health care system. During Black Maternal Health Week, we refocus on that effort and celebrate America's extraordinary maternal health care workforce—including doulas and midwives, who offer crucial support for our Nation's mothers throughout pregnancy, childbirth, and postpartum and whose work is essential to the health and well-being of all of our mothers and children.

NOW, THEREFORE, I, JOSEPH R. BIDEN JR., President of the United States of America, by virtue of the authority vested in me by the Constitution and the laws of the United States, do hereby proclaim April 11 through April 17, 2022, as Black Maternal Health Week. I call upon all Americans to raise awareness of the state of Black maternal health in the United States by understanding the consequences of systemic discrimination, recognizing the scope of this problem and the need for urgent solutions, amplifying the voices and experiences of Black women, families, and communities, and committing to building a world in which Black women do not have to fear for their safety, their well-being, their dignity, or their lives before, during, and after pregnancy.

IN WITNESS WHEREOF, I have hereunto set my hand this eighth day of April, in the year of our Lord two thousand twenty-two, and of the Independence of the United States of America the two hundred and forty-sixth.

[FR Doc. 2022-08074

Filed 4-12-22; 11:15 am]

Billing code 3395-F2-P